DEPARTMENT OF JUSTICE

Notice of Lodging of Consent Decree Pursuant to the Comprehensive Environmental Response, Compensation, and Liability Act

In accordance with Departmental policy, 28 CFR 50.7, notice is hereby given that on April 30, 2001, a proposed Consent Decree in United States v. J. B. Stringfellow, Jr. et al., Civil Action No. 83-2501 (R), was lodged with the United States District Court for the Central District of California. the Complaint in this action was brought pursuant to, inter alia, the Comprehensive Environmental Response, Compensation, and Liability Act, 42 U.S.C. 9601 et seq., to recover costs incurred in connection with remedial activities at the Stringfellow Superfund Site in Riverside, California, and to obtain injunctive relief requiring the defendants to take further remedial actions at the Site.

The proposed Consent Decree provides for the recovery of response costs incurred by the United States in connection with EPA's cleanup of the Site through December 31, 2000, through the payment by the State of $99,440,000. In addition, this Consent Decree provides a general commitment by the State to construct and complete the final remedy at the Site and to pay future oversight costs that the United States may incur.

The Department of Justice will receive, for a period of thirty (30) days from the date of this publication, comments relating to the proposed Consent Decree. Comments should be addressed to the Assistant Attorney General of the Environment and Natural Resources Division, Department of Justice, P.O Box 7611, Ben Franklin Station, Washington, DC 20044. Comments should refer to United States v. J.B. Stringfellow, Jr. et al., Civil Action No. 83-2501 (R), D.J. Ref. No. 90-11-2-24.

The proposed Consent Decree may be examined at either of the following locations: (1) The Office of the United States Attorney, Central District of California, Federal Building, Room 7516, 300 North Los Angeles Street, Los Angeles, California; or (2) Office of Regional Counsel, environmental Protection Agency, 75 Hawthorne St., San Francisco, California. A copy of the consent decree can be obtained by mail from the Department of Justice Consent Decree Library, P.O. Box 7611, Washington, DC 20044. In requesting a copy of the consent decree, please enclose a check in the amount of $4.50 (25 cents per page reproduction cost) payable to the Consent Decree Library.

Ellen M. Mahan,
Assistant Section Chief, Enforcement Section.

[FR Doc. 01-13866 Filed 6-1-01; 8:45 am]

BILLING CODE 4410-15-M